DEPARTMENT OF STATE

[Public Notice: 10304]

Notice of Public Meeting

The Department of State will conduct an open meeting at 10:00 a.m. on Thursday, March 1, 2018, at the offices of the Radio Technical Commission for Maritime Services (RTCM), 1611 N. Kent Street, Suite 605, Arlington, VA 22209. The primary purpose of the meeting is to prepare for the fifth session of the International Maritime Organization's (IMO) Sub-Committee on Ship Systems and Equipment to be held at the IMO Headquarters, United Kingdom, March 12-16, 2018.

The agenda items to be considered include:

—Adoption of the agenda

—Decisions of other IMO bodies

—Safety objectives and functional requirements of the Guidelines on alternative design and arrangements for SOLAS chapters II-1 and III

—Develop new requirements for ventilation of survival crafts

—Uniform implementation of paragraph 6.1.1.3 of the LSA Code

—Consequential work related to the new Code for ships operating in polar waters

—Review SOLAS chapter II-2 and associated codes to minimize the incidence and consequences of fires on ro-ro spaces and special category spaces of new and existing ro-ro passenger ships

—Amendments to the FSS Code for CO2 pipelines in under-deck passageways

—Amendments to MSC.1/Circ.13151

—Requirements for onboard lifting appliances and anchor handling winches

—Revised SOLAS regulations II 1/13 and II-1/13-1 and other related regulations for new ships

—Unified interpretation of provisions of IMO safety, security, and environment-related Conventions

—Development of guidelines for cold ironing of ships and of amendments to SOLAS chapters II-1 and II-2, if necessary

—Biennial status report and provisional agenda for SSE 6

—Election of Chair and Vice-Chair for 2019

—Any other business

Members of the public may attend this meeting up to the seating capacity of the room. Upon request to the meeting coordinator, members of the public may also participate via teleconference, up to the capacity of the teleconference phone line. In order to ensure reasonable accommodation for the full number of meeting participants, those who plan to attend should contact the meeting coordinator, LT Laura Fitzpatrick, by email at Laura.M.Fitzpatrick@uscg.mil, by phone at (202) 372-1396, or in writing at 2703 Martin Luther King Jr. Ave. SE, Stop 7509, Washington, DC 20593-7509 not later than February 22, 2018, 7 days prior to the meeting. Requests made after February 22, 2018 might not be able to be accommodated. RTCM Headquarters is located adjacent to the Rosslyn Metro station and is accessible by taxi and privately owned conveyance. In the case of inclement weather where the U.S. Government is closed or delayed, a public meeting may be conducted virtually by calling (202) 475-4000, Participant code: 887 809 72. The meeting coordinator will confirm whether the virtual public meeting will be utilized. Members of the public can find out whether the U.S. Government is delayed or closed by visiting www.opm.gov/status/.

Additional information regarding this and other IMO public meetings may be found at: www.uscg.mil/imo.

Joel C. Coito,
Coast Guard Liaison Officer, Office of Ocean and Polar Affairs, Department of State.

[FR Doc. 2018-02272 Filed 2-5-18; 8:45 am]

BILLING CODE 4710-09-P